DEPARTMENT OF THE INTERIOR

National Park Service

[NPS-WASO-NRNHL-DTS#-29926; PPWOCRADI0, PCU00RP14.R50000]

National Register of Historic Places; Notification of Pending Nominations and Related Actions

AGENCY: National Park Service, Interior.

ACTION: Notice.

SUMMARY: The National Park Service is soliciting comments on the significance of properties nominated before February 22, 2020, for listing or related actions in the National Register of Historic Places.

DATES: Comments should be submitted by March 25, 2020.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before February 22, 2020. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Los Angeles County

Descanso Gardens, 1418 Descanso Dr., La Cañada Flintridge, SG100005157

Riverside County

Miller, Grace Lewis, House, 2311 North Indian Canyon Dr., Palm Springs, SG100005158

MONTANA

Lewis and Clark County

Quinn's Garage, 206 Main St., Augusta, SG100005163

NEW HAMPSHIRE

Cheshire County

Faulkner & Colony Woolen Mill, 222 West St., Keene, SG100005161

Grafton County

Lyme-East Thetford Bridge, VT 113/East Thetford Rd. over the Connecticut R., Lyme, SG100005159

Rockingham County

Kensington Social Library, 126 Amesbury Rd., Kensington, SG100005160

Old Deerfield Center Historic District

51, 58, 68, 70 Church St.; 23 Lang Rd.; 49, 51, 53 Meetinghouse Hill Rd.; 8, 20, 24, Mt. Delight Rd.; Cemetery, north side of Meetinghouse Hill Rd., Deerfield, SG100005162

NEW JERSEY

Cumberland County

Siloam Cemetery, 550 North Valley Ave., Vineland, SG100005155

RHODE ISLAND

Providence County

First Universalist Church, 78 Earle St., Woonsocket, SG100005156

VERMONT

Orange County

Lyme-East Thetford Bridge, VT 113/East Thetford Rd. over the Connecticut R., Thetford, SG100005159

Additional documentation has been received for the following resource:

OREGON

Multnomah County

Ladd's Addition Historic District, Bounded by SE Division, Hawthorne, Twelfth, and Twentieth Sts., Portland, AD88001310

(Authority: Section 60.13 of 36 CFR part 60)

Dated: February 24, 2020.
Julie H. Ernstein,
Supervisory Archeologist, National Register of Historic Places/National Historic Landmarks Program.

[FR Doc. 2020-04803 Filed 3-9-20; 8:45 am]

BILLING CODE 4312-52-P